SMALL BUSINESS ADMINISTRATION

[Declaration of Disaster #3337, Amdt. #1]

State of Iowa

In accordance with a notice received from the Federal Emergency Management Agency, dated May 14, 2001, the above-numbered Declaration is hereby amended to include Calhoun County in the State of Iowa as a disaster area caused by flooding and severe storms beginning on April 8, 2001 and continuing.

In addition, applications for economic injury loans from small businesses located in Buena Vista, Carroll, Greene, Pocahontas, Sac and Webster Counties in the State of Iowa may be filed until the specified date at the previously designated location.

All other information remains the same, i.e., the deadline for filing applications for physical damage is July 1, 2001 and for economic injury the deadline is February 1, 2002.

(Catalog of Federal Domestic Assistance Program Nos. 59002 and 59008)
Dated: May 15, 2001.
James E. Rivera,
Acting Associate Administrator for Disaster Assistance.

[FR Doc. 01-13189 Filed 5-24-01; 8:45 am]

BILLING CODE 8025-01-P